DEPARTMENT OF HOMELAND SECURITY

Federal Emergency Management Agency

[Docket ID FEMA-2021-0002; Internal Agency Docket No. FEMA-B-2116]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arizona: | Maricopa Unincorporated Areas of Maricopa County (21-09-0181X). | The Honorable Jack Sellers, Chairman, Board of Supervisors, Maricopa County, 301 West Jefferson Street, 10th Floor, Phoenix, AZ 85003. | Flood Control District of Maricopa County, 2801 West Durango Street, Phoenix, AZ 85009. | https://msc.fema.gov/portal/advanceSearch. | Apr. 30, 2021 | 040037
Mohave | City of Bullhead City (20-09-0730P). | The Honorable Tom Brady, Mayor, City of Bullhead City, 2355 Trane Road, Bullhead City, AZ 86442. | Public Works Department, 2355 Trane Road, Bullhead City, AZ 86442. | https://msc.fema.gov/portal/advanceSearch. | Jun. 9, 2021 | 040125
California | Orange City of Huntington Beach (20-09-0545P). | The Honorable Lyn Semeta, Mayor, City of Huntington Beach, 2000 Main Street, Huntington Beach, CA 92648. | City Hall, 2000 Main Street, Huntington Beach, CA 92648. | https://msc.fema.gov/portal/advanceSearch. | Dec. 17, 2020 | 065034
Orange | Unincorporated Areas of Orange County (20-09-0545P). | The Honorable Michelle Steel, Chair, Board of Supervisors, Orange County, 333 West Santa Ana Boulevard, Santa Ana, CA 92701. | Orange County Flood Control Division, H.G. Osborne Building, 300 North Flower Street, 7th Floor, Santa Ana, CA 92703. | https://msc.fema.gov/portal/advanceSearch. | Dec. 17, 2020 | 060212
Sacramento | Unincorporated Areas of Sacramento County, (20-09-0760P). | The Honorable Phil Serna, Chairman, Board of Supervisors, Sacramento County, 700 H Street, Suite 2450, Sacramento, CA 95814. | Sacramento County, Department of Water Resources, 827 7th Street, Room 301, Sacramento, CA 95814. | https://msc.fema.gov/portal/advanceSearch. | May 11, 2021 | 060262
San Bernardino | City of San Bernardino (20-09-1133P). | The Honorable John Valdivia, Mayor, City of San Bernardino, 290 North D Street, San Bernardino, CA 92401. | City Hall, 300 North D Street, San Bernardino, CA 92418. | https://msc.fema.gov/portal/advanceSearch. | Apr. 28, 2021 | 060281
San Bernardino | Unincorporated Areas of San Bernardino County (20-09-1133P). | The Honorable Curt Hagman, Chairman, Board of Supervisors, San Bernardino County, 385 North Arrowhead Avenue, 5th Floor, San Bernardino, CA 92415. | San Bernardino County Public Works, Water Resources Department, 825 East 3rd Street, San Bernardino, CA 92415. | https://msc.fema.gov/portal/advanceSearch. | Apr. 28, 2021 | 060270
San Mateo County | City of Belmont (20-09-1412P). | The Honorable Charles Stone, Mayor, City of Belmont, 1 Twin Pines Lane, Belmont, CA 94002. | Public Works Department, 1 Twin Pines Lane, Belmont, CA 94002. | https://msc.fema.gov/portal/advanceSearch. | May 20, 2021 | 065016
Illinois: | Cook City of Markham (20-05-2119P). | The Honorable Roger A. Agpawa, Mayor, City of Markham, 16313 Kedzie Parkway, Markham, IL 60428. | City Hall, 16313 South Kedzie Parkway, Markham, IL 60428. | https://msc.fema.gov/portal/advanceSearch. | Jun. 16, 2021 | 175169
Cook | Unincorporated Areas of Cook County (20-05-2119P). | The Honorable Toni Preckwinkle, County Board President Cook County, 118 North Clark Street, Room 537, Chicago, IL 60602. | Cook County Building and Zoning Department, 69 West Washington, Suite 2830, Chicago, IL 60602. | https://msc.fema.gov/portal/advanceSearch. | Jun. 16, 2021 | 170054
DuPage | Village of Lisle (20-05-3529P). | The Honorable Christopher Pecak, Mayor, Village of Lisle, 925 Burlington Avenue, Lisle, IL 60532. | Village Hall, 925 Burlington Avenue, Lisle, IL 60532. | https://msc.fema.gov/portal/advanceSearch. | Jun. 1, 2021 | 170211
Will | City of Lockport (21-05-0834P). | The Honorable Steven Streit, Mayor, City of Lockport, 222 East 9th Street, Lockport, IL 60441. | Public Works and Engineering, 17112 South Prime Boulevard, Lockport, IL 60441. | https://msc.fema.gov/portal/advanceSearch. | Jun. 11, 2021 | 170703
Will | Unincorporated Areas of Will County (21-05-0834P). | The Honorable Jennifer Bertino-Tarrant, Will County Executive, Will County Office Building, 302 North Chicago Street, Joliet, IL 60432. | Land Use Department, 58 East Clinton Street, Suite 100, Joliet, IL 60432. | https://msc.fema.gov/portal/advanceSearch. | Jun. 11, 2021 | 170695
Indiana: Marion | City of Indianapolis (20-05-3684P). | The Honorable Joe Hogsett, Mayor, City of Indianapolis, 200 East Washington Street, Suite 2501 Indianapolis, IN 46204. | City Hall, 1200 Madison Avenue, Suite 100, Indianapolis, IN 46225. | https://msc.fema.gov/portal/advanceSearch. | May 24, 2021 | 180159
Kansas: | Leavenworth City of Basehor (20-07-1131P). | The Honorable David Breuer, Mayor, City of Basehor, P.O. Box 406, Basehor, KS 66007. | City Hall, 2620 North 155th Street, Basehor, KS 66007. | https://msc.fema.gov/portal/advanceSearch. | May 12, 2021 | 200187
Leavenworth | Unincorporated Areas of Leavenworth County (20-07-1131P). | Mr. Doug Smith, Chairman, Board of County Commissioners Leavenworth County, 300 Walnut Street, Suite 225, Leavenworth, KS 66048. | Leavenworth County Courthouse, 300 Walnut Street, Leavenworth, KS 66048. | https://msc.fema.gov/portal/advanceSearch. | May 12, 2021 | 200186
Michigan: Macomb | City of Fraser (20-05-3517P). | The Honorable Michael Carnagie, Mayor, City of Fraser, 33000 Garfield Road, Fraser, MI 48026. | City Hall, 33000 Garfield Road, Fraser, MI 48026. | https://msc.fema.gov/portal/advanceSearch. | May 28, 2021 | 260122
Missouri: Jasper | City of Joplin (20-07-1062P). | The Honorable Ryan Stanley, Mayor, City of Joplin, City Hall, 5th Floor, 602 South Main Street, Joplin, MO 64801. | City Hall, 602 South Main Street, Joplin, MO 64801. | https://msc.fema.gov/portal/advanceSearch. | Jun. 3, 2021 | 290183
Washington: Jefferson | Unincorporated Areas of Jefferson County (20-10-1157P). | Ms. Kate Dean, County Commissioner, Jefferson County Board of County Commissioners, P.O. Box 1220, Port Townsend, WA 98368. | Jefferson County Department of Community Development, 621 Sheridan Street, Port Townsend, WA 98368. | https://msc.fema.gov/portal/advanceSearch. | May 11, 2021 | 530069
Wisconsin: Kenosha | Village of Somers (17-05-6202P). | Mr. George Stoner, Board of Trustees President, Village of Somers, 7511 12th Street, Kenosha, WI 53171. | Village Hall, 7511 12th Street, Kenosha, WI 53144. | https://msc.fema.gov/portal/advanceSearch. | Jun. 14, 2021 | 550406

[FR Doc. 2021-04981 Filed 3-9-21; 8:45 am]

BILLING CODE 9110-12-P